DEPARTMENT OF HEALTH AND HUMAN SERVICES

Administration for Children and Families

Submission for OMB Review; Comment Request

Title: Implementation of Promoting Safe and Stable Families by Indian Tribes.

OMB No.: New Collection.

Description: The purpose of this study is to examine the ways in which Indian Tribes used funds they received under title IV-B subpart 2 to provide services that strengthen families' ability to care for their children. Additionally, a broad range of related child welfare issues with respect to Indian Tribes will be explored. Consistent with this approach, the research framework for this study documents and analyzes a full range of implementation issues for Promoting Safe and Stable Families (PSSF)—planning; accomplishments and changes; organization and infrastructure; related services and practices; and resource uses and allocation—over time and across various stakeholders involved. This study also provides a historical perspective on Tribal implementation of the PSSF legislation, including recent emphasis on strengthening parental relationships and promoting healthy marriages.

Respondents: Tribal Leaders; Program Managers for title IV-B, subpart 1 and 2 and Front Line Workers for title IV-B, subpart 1 and 2; Child Welfare/Human Service Collaborators; Funding Officials; and Court Officials.

Annual Burden Estimates
Instrument | Number of respondents | Number of responses per respondent | Average burden hours per response | Total burden hours
Tribal Leaders | 40 | 1 | 1 | 40
Program Managers and Front Line Workers | 120 | 1 | 1 | 120
Funding Officials | 20 | 1 | 1 | 20
Child Welfare/Human Service Collaborators | 60 | 1 | 1 | 60
Court Officials | 20 | 1 | 1 | 20
Estimated Total Annual Burden Hours |  |  |  | 260

Additional Information

Copies of the proposed collection may be obtained by writing to The Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: July 8, 2002.
Bob Sargis,
Reports Clearance Officer.

[FR Doc. 02-17480 Filed 7-11-02; 8:45 am]

BILLING CODE 4184-01-M